ENVIRONMENTAL PROTECTION AGENCY

[FRL-9829-9]

Forum on Environmental Measurements Announcement of Competency Policy for Assistance Agreements—Implementation Extension

AGENCY: Environmental Protection Agency (EPA).

ACTION: Notice. Announcement of Implementation Extension for Competency Policy for Assistance Agreements.

SUMMARY: As published in the Federal Register on April 29, 2013, the Environmental Protection Agency's Forum on Environmental Measurements (FEM) is implementing a policy requiring organizations generating or using environmental data under certain Agency-funded assistance agreements to submit documentation of their competency prior to award of the agreement, or if that is not practicable, prior to beginning any work involving the generation or use of environmental data under the agreement. The Policy was originally approved on December 12, 2012 by the Science Technology Policy Council (STPC). Because implementation tools are currently being developed by the Agency based on outreach with internal and external stakeholders, EPA is delaying the required effective date of the Policy to October 1, 2013. Webinars and materials to aid with implementation are available on the FEM Web site (http://www.epa.gov/fem/lab_comp.htm). Accordingly, this revision means that the policy will apply to:

• Awards made under competitive solicitations issued on or after October 1, 2013* that are expected to exceed $200,000 (in federal funding) in maximum value and involve the use or generation of environmental data; and

• Non-competitive assistance agreements awarded on or after October 1, 2013* that are expected to exceed $200,000 (in federal funding) in total maximum value and involve the use or generation of environmental data.

*While the effective date of this policy is being changed to October 1, 2013, EPA offices may apply this policy prior to that date at their discretion.

FOR FURTHER INFORMATION CONTACT: Comments or questions should be sent to Ms. Lara P. Phelps, US EPA (E243-05), 109 T. W. Alexander Drive, Research Triangle Park, NC 27709; emailed to phelps.lara@epa.gov>; or call (919) 541-5544.

Dated: June 20, 2013.
Glenn Paulson,
Science Advisor.

[FR Doc. 2013-15753 Filed 6-28-13; 8:45 am]

BILLING CODE 6560-50-P